DEPARTMENT OF ENERGY

Federal Energy Regulatory Commission

Combined Notice of Filings # 1

April 16, 2008.

Take notice that the Commission received the following electric rate filings:

Docket Numbers: ER96-719-020; ER97-2801-021; ER99-2156-014.

Applicants: MidAmerican Energy Company; PacifiCorp; Cordova Energy Company LLC.

Description: MidAmerican Energy Company et al. submits Notice of Change regarding MidAmerican's ownership of certain generation facilities.

Filed Date: 04/14/2008.

Accession Number: 20080415-0200.

Comment Date: 5 p.m. Eastern Time on Monday, May 05, 2008.

Docket Numbers: ER96-780-019; ER01-1633-007; ER00-3240-010; ER03-1383-010.

Applicants: Southern Company Services, Inc.

Description: Southern Companies submits substitute tariff sheets in compliance with FERC's Order 697.

Filed Date: 04/11/2008.

Accession Number: 20080415-0266.

Comment Date: 5 p.m. Eastern Time on Friday, May 02, 2008.

Docket Numbers: ER99-2541-009; ER05-731-003; ER97-3556-017; ER04-582-007; ER99-221-012; ER99-220-014; ER01-1764-006; ER97-3553-005.

Applicants: Carthage Energy, LLC; Central Maine Power Company; Energetix, Inc.; Hartford Steam Company; New York State Electric & Gas Corp.; NYSEG Solutions, Inc.; PEI Power II, LLC; Rochester Gas and Electric Corporation.

Description: Carthage Energy, LLC submits Substitute Original Sheet 1 to FERC Electric Tariff, Third Revised Volume 1.

Filed Date: 04/11/2008.

Accession Number: 20080415-0265.

Comment Date: 5 p.m. Eastern Time on Friday, May 02, 2008.

Docket Numbers: ER03-552-011; ER03-984-009.

Applicants: New York Independent System Operator, Inc.

Description: New York Independent System Operator, Inc. submits its Status Report complying with the February 22, order.

Filed Date: 04/15/2008.

Accession Number: 20080415-5057.

Comment Date: 5 p.m. Eastern Time on Tuesday, May 6, 2008.

Docket Numbers: ER08-682-001.

Applicants: Idaho Power Company.

Description: Idaho Power Co. submits a request to withdraw First Revised Sheet 131 to their 3/17/08 filing.

Filed Date: 04/14/2008.

Accession Number: 20080415-0194.

Comment Date: 5 p.m. Eastern Time on Monday, May 05, 2008.

Docket Numbers: ER08-822-000.

Applicants: Old Lane Commodities, LP.

Description: Old Lane Commodities, LP submits a notice of cancellation of its market based rate tariff.

Filed Date: 04/15/2008.

Accession Number: 20080415-0199.

Comment Date: 5 p.m. Eastern Time on Tuesday, May 06, 2008.

Docket Numbers: ER08-823-000.

Applicants: Idaho Power Company.

Description: Idaho Power Co. submits certain modifications to non-rate terms and conditions in its Open Access Transmission Tariff.

Filed Date: 04/14/2008.

Accession Number: 20080415-0198.

Comment Date: 5 p.m. Eastern Time on Monday, May 05, 2008.

Docket Numbers: ER08-825-000.

Applicants: Southwest Power Pool, Inc.

Description: Southwest Power Pool, Inc. submits Amendment 1 to Southwest Power Pool, Inc. Large Generator Interconnection Agreement Service 1168.

Filed Date: 04/14/2008.

Accession Number: 20080415-0201.

Comment Date: 5 p.m. Eastern Time on Monday, May 05, 2008.

Docket Numbers: ER08-826-000.

Applicants: New York Independent System Operator, Inc.

Description: New York Independent System Operator, Inc submits an executed large generator interconnection agreement with the Village of Arcade et al.

Filed Date: 04/14/2008.

Accession Number: 20080415-0202.

Comment Date: 5 p.m. Eastern Time on Monday, May 05, 2008.

Docket Numbers: ER08-827-000.

Applicants: PJM Interconnection, L.L.C.

Description: PJM Interconnection, LLC submits an interconnection service agreement among PJM Virginia Electric and Power Company and Virginia Electric and Power Company designated as Original Service Agreement 1878.

Filed Date: 04/15/2008.

Accession Number: 20080416-0050.

Comment Date: 5 p.m. Eastern Time on Tuesday, May 06, 2008.

Docket Numbers: ER08-828-000.

Applicants: American Electric Power Service Corporation.

Description: AEP Texas Central Company submits an executed generation interconnection agreement dated 3/25/08 with Victoria ELE, LP.

Filed Date: 04/15/2008.

Accession Number: 20080416-0051.

Comment Date: 5 p.m. Eastern Time on Tuesday, May 06, 2008.

Take notice that the Commission received the following open access transmission tariff filings:

Docket Numbers: OA07-60-003.

Applicants: Idaho Power Company.

Description: Idaho Power Company's OATT Errata Filing pursuant to the March 19, 2008 order, Order No. 890.

Filed Date: 04/15/2008.

Accession Number: 20080416-5000.

Comment Date: 5 p.m. Eastern Time on Tuesday, May 06, 2008.

Docket Numbers: OA08-14-002.

Applicants: Midwest Independent Transmission System.

Description: Request of the Midwest ISO for Waiver of Conversion Requirement.

Filed Date: 04/15/2008.

Accession Number: 20080416-5026.

Comment Date: 5 p.m. Eastern Time on Tuesday, May 06, 2008.

Docket Numbers: OA08-83-001.

Applicants: Idaho Power Company.

Description: Idaho Power Co submits their request to withdraw sheets from its 3/17/08 compliance filing and commits to re-file the pro forma rollover reforms within 30 days, OA08-83.

Filed Date: 04/14/2008.

Accession Number: 20080416-0053.

Comment Date: 5 p.m. Eastern Time on Monday, May 05, 2008.

Docket Numbers: OA08-102-000.

Applicants: American Electric Power Service Corporation.

Description: Order No. 890-A OATT Filing of American Electric Power Service Corporation.

Filed Date: 04/15/2008.

Accession Number: 20080415-5099.

Comment Date: 5 p.m. Eastern Time on Tuesday, May 06, 2008.

Docket Numbers: OA08-103-000.

Applicants: WSPP Inc.

Description: WSPP Inc's Order No. 890-A OATT Filing.

Filed Date: 04/15/2008.

Accession Number: 20080416-5002.

Comment Date: 5 p.m. Eastern Time on Tuesday, May 06, 2008.

Docket Numbers: OA08-104-000.

Applicants: Southwest Power Pool, Inc.

Description: Southwest Power Pool's Order No. 890-A OATT Filing.

Filed Date: 04/15/2008.

Accession Number: 20080416-5003.

Comment Date: 5 p.m. Eastern Time on Tuesday, May 06, 2008.

Docket Numbers: OA08-105-000.

Applicants: Oklahoma Gas and Electric Company.

Description: Order No. 890-A OATT Filing of Oklahoma Gas and Electric Company.

Filed Date: 04/15/2008.

Accession Number: 20080416-5032.

Comment Date: 5 p.m. Eastern Time on Tuesday, May 06, 2008.

Take notice that the Commission received the following PURPA 210(m)(3) filings:

Docket Numbers: QM08-5-000.

Applicants: United Illuminating Company, The.

Description: The United Illuminating Co submits an application for relief on a service territory-wide basis from the provisions of Section 292.303(a).

Filed Date: 04/15/2008.

Accession Number: 20080416-0120.

Comment Date: 5 p.m. Eastern Time on Tuesday, May 13, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-8746 Filed 4-22-08; 8:45 am]

BILLING CODE 6717-01-P